DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet on October 14 and 15, 2011. The meeting will be open to the public.

DATES: The meeting will take place Friday, October 14, 2011, from 8:30 a.m. to 5 p.m. EDT; and Saturday, October 15, 2011, from 9 a.m. to 1:30 p.m. EDT. Please note that the meeting may close early if the Board has completed its business.

ADDRESSES: The meeting will be held at the National Emergency Training Center, Building H, Room 300, Emmitsburg, Maryland. Members of the public who wish to obtain details on how to gain access to the facility and directions may contact Ruth MacPhail as listed in the FOR FURTHER INFORMATION CONTACT section by close of business October 12, 2011. For information on services for individuals with disabilities or to request special assistance, contact Ruth MacPhail as soon as possible. A picture identification is needed for access.

To facilitate public participation, we are inviting public comment on the issues to be considered by the Board as listed in the SUPPLEMENTARY INFORMATION section. Comments must be submitted in writing no later than October 12, 2011, and must be identified by docket ID FEMA-2008-0010 and may be submitted by one of the following methods:

• Federal eRulemaking Portal: http://www.regulations.gov. Follow the instructions for submitting comments.

• E-mail: FEMA-RULES@dhs.gov. Include the docket ID in the subject line of the message.

• Fax: 703-483-2999.

• Mail: Ruth MacPhail, 16825 South Seton Avenue, Emmitsburg, Maryland 21727.

Instructions: All submissions received must include the docket ID for this action. Comments received will be posted without alteration at http://www.regulations.gov, including any personal information provided.

Docket: For access to the docket to read background documents or comments received by the Board, go to http://www.regulations.gov.

A public comment period will be held during the meeting on October 14, 2011, from 4:00 p.m. to 4:30 p.m. EDT, and speakers will be afforded 5 minutes to make comments. Please note that the public comment period may end before the time indicated, following the last call for comments. Contact the individual listed below to register as a speaker.

FOR FURTHER INFORMATION CONTACT: Ruth MacPhail, 16825 South Seton Avenue, Emmitsburg, Maryland 21727, telephone (301) 447-1117, fax (301) 447-1173, and e-mail ruth.macphail@dhs.gov.

SUPPLEMENTARY INFORMATION: Notice of this meeting is given under the Federal Advisory Committee Act, 5 U.S.C. App. (Pub. L. 92-463).

Purpose of the Board

The purpose of the Board is to review annually the programs of the National Fire Academy (Academy) and advise the Administrator of the Federal Emergency Management Agency (FEMA), through the United States Fire Administrator, regarding the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

On the first day of the meeting, the Board will elect a Chairperson and Vice Chairperson for fiscal year (FY) 2012, and will review and approve the minutes of the July 12, 2011 meeting. The Board will review Academy program activities, including instructor-led online course pilot tests, current curriculum developments, and anticipated FY 2012 curriculum developments. There will be an introduction of new staff members and the Academy will report on the revamped National Professional Development Matrix, a standard career development education and training model, which the Academy has modified to tie together the various accreditation criteria, voluntary professional standards, and higher education curricula. The modification includes adding the National Fire Protection Association job proficiency requirement titles and the Center for Professional Excellence standards.

There will be a discussion on the status of the conversion of courses to bachelor's-degree equivalent educational outcomes by adding the National Fire Protection Association job proficiency requirement titles and the Center for Professional Excellence standards. The discussion will include a review of course objectives and the outlines for 13 courses that are being rewritten and will be added to the Fire and Emergency Services Higher Education (FESHE) Web site. The Academy will report on the Atlanta Fire Department and North Carolina workshops which are being held to explain the model curricula and professional development matrix. The status of the FESHE Institutional Recognition and Certificate program, which is under active review by the North American Fire Training Directors for possible revision and approval, will be reviewed. The Academy will report on the status of Training Resources and Data Exchange (TRADE)/FESHE Adobe Connect sessions, including discussion of Academy-facilitated work sessions which will be held in each of 10 FEMA regions.

The Board will attend Annual Ethics Training, provided by FEMA's Office of Chief Counsel, and will discuss the status of deferred maintenance and capital improvements on the National Emergency Training Center (NETC) campus, to include the FY 2011 Budget Request/FY 2012 Budget Planning updates, and National Fire Programs update. The Board will review and consider reports from the Applicant Outreach Subcommittee, FESHE/Professional Development Subcommittee, Training Resources and Data Exchange Review Subcommittee, and Emergency Medical Services Subcommittee.

After discussion of these topics, there will be a public comment period. After deliberation, the Board will recommend action to the Superintendent of the National Fire Academy and the Administrator of FEMA.

On the second day of the meeting, the Board will engage in an annual report working session. There will be no public comment period on the second day.

Dated: September 12, 2011.
Denis G. Onieal,
Superintendent, National Fire Academy, United States Fire Administration, Federal Emergency Management Agency.

[FR Doc. 2011-23992 Filed 9-16-11; 8:45 am]

BILLING CODE 9111-45-P